GENERAL SERVICES ADMINISTRATION

[Notice-R09-2011-01; Docket 2011-0006; Sequence 12]

Record of Decision for the Final Environmental Impact Statement for Improvements to the Calexico West Land Port of Entry, Calexico, CA

AGENCY: Public Buildings Service, General Services Administration (GSA).

ACTION: Notice.

SUMMARY: Pursuant to the National Environmental Policy Act of 1969, the General Services Administration (GSA) announces the availability of the Record of Decision (ROD) for the Calexico West Land Port of Entry. On July 21, 2011, the Acting Regional Administrator, Pacific Rim Region, approved the ROD for the project.

DATES: July 29, 2011.

FOR FURTHER INFORMATION CONTACT: Ms. Maureen Sheehan, NEPA Project Manager, maureen.sheehan@gsa.gov.

SUPPLEMENTARY INFORMATION:

Background

GSA has identified and assessed several design options for the renovation, replacement, and continued operation of the Calexico West Port of Entry. In addition, GSA analyzed the No Action Alternative in which GSA would continue the status quo, that is, operate the port of entry in its current configuration, with only minor repairs and alterations.

The ROD includes a statement of the decision made, synopses of other alternatives considered, the basis for the decision, a description of the environmentally preferable alternative, and a listing of measures to minimize environmental harm.

Copies of the Record of Decision may be obtained from the contact listed above or online at http://www.gsa.gov/nepalibrary.

Contact: Ms. Maureen Sheehan, NEPA Project Manager, Portfolio Management Division, Capital Investment Branch (9P2PTC), U.S. General Services Administration, 400 15th St., SW., Auburn, Washington 98001, (253) 931-7548 or via e-mail to maureen.sheehan@gsa.gov.

Dated: July 21, 2011.
Samuel R. Mazzola,
Director, Portfolio Management Division, Pacific Rim Region.

[FR Doc. 2011-19217 Filed 7-28-11; 8:45 am]

BILLING CODE 6820-YF-P